DEPARTMENT OF EDUCATION

Office of Vocational and Adult Education; Overview Information; Promoting Rigorous Career and Technical Education Programs of Study Through Statewide or Multi-State Articulation Agreements

Notice Inviting Applications for New Awards Using Fiscal Year (FY) 2007 Funds.

Catalog of Federal Domestic Assistance (CFDA) Number: 84.051C.

DATES:

Applications Available: May 20, 2008.

Deadline for Notice of Intent to Apply: May 30, 2008.

Deadline for Transmittal of Applications: July 7, 2008.

Deadline for Intergovernmental Review: September 2, 2008.

Full Text of Announcement

I. Funding Opportunity Description

Purpose of the Program: Section 114(c)(1) of the Carl D. Perkins Career and Technical Education Act of 2006 (Act), 20 U.S.C. 2324(c)(1), authorizes the Secretary to carry out research, development, dissemination, evaluation and assessment, capacity building, and technical assistance with regard to the career and technical education (CTE) programs under the Act. Under that authority, the Secretary plans to support State efforts to offer rigorous CTE programs of study and to institutionalize those rigorous CTE programs of study using articulation agreements.

Background Information

The current Act continues the commitment to high-quality CTE embodied in the previous Perkins Act. The Act also continues the previous law's focus on developing challenging academic and technical standards and assisting students in meeting such standards, including through preparation for high-skill, high-wage, or high-demand occupations in current or emerging professions and in nontraditional fields.

Through this competition, the Department continues its efforts to promote rigorous secondary and postsecondary CTE programs of study and to implement the reauthorized statute. The competition is intended to (1) build on the efforts of States and localities to develop challenging academic and technical standards and to assist students in meeting such standards, including through preparation for high-skill, high-wage, or high-demand occupations in current or emerging professions, and (2) promote the development of services and activities that integrate rigorous and challenging academic and career and technical instruction, and that link secondary education and postsecondary education for participating CTE students. Through this competition, we also intend to build States' capacities to offer rigorous CTE programs of study that are implemented through statewide or multi-State articulation agreements that will continue after Federal funding under this competition ends.

Definitions

The definitions in section 3 of the Act apply to this competition. (20 U.S.C. 2302)

Requirements and Priority

Required Cooperative Agreement: The Secretary will make awards to each grantee under the terms of a cooperative agreement. The Secretary expects to have substantial involvement with grantees during the performance period of funded projects. Substantial involvement on the part of the Department includes—

(a) Reviewing and approving project activities;

(b) Halting an activity immediately if detailed performance specifications or requirements are not met;

(c) Reviewing and approving one stage of work before the grantee can begin a subsequent stage during the project period;

(d) Collaborating or participating jointly in the assisted activities; and

(e) Reviewing and approving plans for developing a CTE program of study and statewide or multi-State articulation agreement.

Required Project Activities: Through this competition, the Secretary will award cooperative agreements to applicants that propose projects that will build a State's capacity, or the capacity of two or more States in the case of consortia, to promote rigorous CTE programs of study. A project must propose to incorporate all of the following elements.

(a) Use of Partnership. (1) Use a partnership to develop a new program of study, or adopt or adapt an existing program of study, that aligns secondary and postsecondary education courses that are needed to prepare students for further education and employment.

(2) Use a partnership to develop a statewide or multi-State articulation agreement that the grantee will use to implement the program of study. The statewide or multi-State articulation agreement developed under this competition must be designed to continue after Federal funding under this competition ends.

(b) CTE programs of study. (1) Develop a new CTE program of study, or adopt or adapt an existing CTE program of study, that—

(i) Incorporates secondary and postsecondary education elements;

(ii) Includes coherent and rigorous content aligned with challenging academic standards and relevant career and technical content in a coordinated, non-duplicative progression of courses that aligns secondary education with postsecondary education to adequately prepare students to succeed in postsecondary education; and

(iii) Leads to an industry-recognized credential or certificate at the postsecondary level or an associate or baccalaureate degree.

(2) In addition, each grantee's program of study must—

(i) At the secondary education level, align coherent and rigorous academic curriculum with challenging academic content standards and student academic achievement standards in reading/language arts, mathematics, and science that the State (or States) in a consortium in which the program of study will be implemented has (or have) established under Title I of the Elementary and Secondary Education Act of 1965, as amended (20 U.S.C. 6301 et seq.) (ESEA), as amended by the No Child Left Behind Act of 2001 (NCLB) (20 U.S.C. 6301 et seq.);

(ii) Enable secondary education students to meet State high school graduation requirements;

(iii) Offer the opportunity for CTE secondary education students to participate in dual or concurrent enrollment programs with postsecondary institutions or otherwise acquire postsecondary education credits;

(iv) Include either—

(A) One of the 16 career clusters recognized by the Department (on the Internet at: http://www.careerclusters.org/16clusters.cfm);

(B) A career cluster approach previously developed by one or more States; or

(C) An approach that a State or a consortium of States wants to develop with funds awarded under this competition;

(v) Incorporate CTE content standards that have been validated by a State, regional, or national third-party entity that is qualified to assess and confirm the rigor of the program of study (e.g., the National Home Builders Association, Oklahoma General Contractor's Association, or NASDCTEc National Advisory Committees) in conjunction with employers and postsecondary institutions that are familiar with the elements of the program of study (e.g., with the CTE courses, industry-recognized standards, or technical skill proficiencies that will be embedded in the program of study);

(vi) Ensure alignment between the State secondary CTE and postsecondary CTE referred to in paragraph (b)(1)(ii) of this section; and

(vii) Offer academic and career counseling.

(c) Partnership Activities. (1) Establish a partnership that, at a minimum, includes the State agencies responsible for the administration of CTE, secondary education, and postsecondary education (both two- and four-year institutions); at least one State workforce agency; and representatives of employers and of faculty and administrators from the State's or States' secondary and postsecondary education institutions who are familiar with elements of the program of study (e.g., with the CTE courses, industry-recognized standards, or technical skill proficiencies that will be embedded in the program of study).

(i) The partnership must—

(A) Ensure the rigor and quality of the CTE program of study to be developed under the cooperative agreement, as described in paragraph (b) of this section; and

(B) Develop a statewide or multi-State articulation agreement that will be used to implement the program of study within the State, or within the States within a consortium.

(ii) Ensure that the projects proposing to develop multi-State articulation agreements include each of the partners listed in paragraph (c)(1) of this section for each State participating in the project.

(2) Actively involve the partners in the project (i.e., each of the partners must have a clearly defined leadership role in planning, developing, and implementing the CTE program of study) as evidenced by clearly delineated responsibilities that are described in the application and by a letter from each State agency committing the agency to carry out the agreed upon partnership responsibilities.

(3) Include in the project representatives of partners who are able to answer questions and influence decisions, have excellent knowledge of the program of study to be developed, adapted, or adopted, and have the authority to communicate information to decision-makers.

(4) Develop a clear rationale for selecting the program of study (e.g., a program of study will provide training in a high-growth, high-demand, or high-wage occupation as reflected in the national, State, or regional labor market), including information about the number of students, schools, and institutions statewide (or within the consortium) that would implement the program of study.

(5) Identify or develop the academic and career content standards, validated by a qualified third-party as described in paragraph (b)(2)(v) of this section, that students would strive to meet under the program of study.

(6) For the program of study, identify the coherent and rigorous sequence of courses the State will require students to take at the secondary and postsecondary (at both two- and four-year institutions) levels.

(7) Perform a course-by-course analysis of the State's secondary and postsecondary CTE courses to identify courses that meet the requirements of the program of study and, if there are missing courses, design courses to complete the program of study.

(8) Identify or develop courses that provide opportunities for secondary education students to participate in dual or concurrent enrollment programs or otherwise acquire postsecondary education credits.

(9) Identify or develop postsecondary courses that, when successfully completed, allow students to transfer to another community college or institution of higher education without losing credit for courses already completed.

(10) Review State and local policies and issues in the following areas and determine how they enhance or inhibit the establishment of a statewide or multi-State articulation agreement for the program of study:

(i) Funding.

(ii) Faculty certification.

(iii) Assessments documenting student attainment of technical skills.

(iv) Credit transfer.

(v) Tracking student transitions.

(vi) Awarding of credit.

(vii) Statewide program of study availability.

(11) Develop and implement plans addressing issues that inhibit the establishment of a program of study and a statewide or multi-State articulation agreement.

(d) Statewide or multi-State articulation agreement.

(1) Prepare a written articulation agreement that is signed by the chief executive of each of the State agencies responsible for the administration of CTE, secondary, and postsecondary education (both two- and four-year institutions) agreeing to implement the program of study.

(2) The articulation agreement must—

(i) Describe the program of study, including—

(A) The specific coursework requirements at the secondary, two-year college, and four-year college levels, including pre-requisites;

(B) As appropriate, course grade requirements, end-of-course exams, certifications, or minimum grade-point average for each secondary and postsecondary level course;

(C) Options available for students to transfer credits to community colleges or four-year institutions; and

(D) The minimum qualifications for faculty teaching courses in the program of study;

(ii) Describe how the program of study meets the requirements in paragraph (b) of this section of the notice;

(iii) Describe plans for implementing the statewide or multi-State articulation agreement;

(iv) Describe plans for periodically reviewing and updating the program of study and statewide or multi-State articulation agreement and for maintaining the involvement of the partners;

(v) Identify the curriculum standards and admission requirements for two- and four-year postsecondary institutions for the program of study;

(vi) Describe the procedures and requirements for transferring secondary and community college coursework for credit;

(vii) Describe the procedures for secondary education students to participate in dual or concurrent enrollment programs or otherwise acquire postsecondary education credits;

(viii) Explain how credit is awarded to students under the program of study;

(ix) Describe the State's or States' plans for developing statewide or multi-State articulation agreements for additional CTE programs of study after the project ends; and

(x) Describe the State's or States' plans for providing, after Federal funding ends, professional development opportunities, including faculty certification training or in-service training designed to prepare staff for implementation of the program of study developed under the project.

(e) Documentation. (1) Document the process the grantee used to design, adapt, or adopt and reach agreement on the program of study, maintain the partnership, build collaborative relationships, develop the statewide or multi-State articulation agreement, and enhance students' ability to transition from secondary to postsecondary education, including how the grantee analyzed courses and reviewed and negotiated transfer and admissions requirements.

(2) Document the process the qualified third party used to assess and confirm the rigor of the content standards of the program of study, as described in paragraph (b)(2)(v) of this section.

(3) Document the State and local policies and issues that enhanced or inhibited the development of the program of study and the statewide or multi-State articulation agreement.

(4) Describe the methods the partnership used to incorporate into the program of study and the articulation agreement State and local policies that facilitated the development of a program of study and facilitated the development of the articulation agreement.

(5) Describe the methods the partnership used to address the obstacles in the following areas:

(i) Funding.

(ii) Faculty certification.

(iii) Assessments documenting student attainment of technical skills.

(iv) Credit transfer.

(v) Tracking student transitions.

(vi) Awarding of credit.

(vii) Statewide program of study availability.

(6) Prepare materials for dissemination that describe the process the grantee followed when designing, adapting, or adopting and reaching agreement on the program of study and developing the statewide or multi-State articulation agreement.

(f) Dissemination. Disseminate—

(1) Material on the process the grantee followed when designing, adapting, or adopting and reaching agreement on the program of study; and

(2) Program-specific material developed for the program of study.

(g) Technical assistance. Plan to participate in technical assistance activities sponsored by the Department, including two meetings in which grantees will describe their projects' progress, make connections with other projects, and discuss common issues, strategies, best practices, and actual or potential barriers to implementation.

Priority: We are establishing this priority for the FY 2007 funds grant competition and any subsequent year in which we make awards from the list of unfunded applicants from this competition, in accordance with section 437(d)(1) of the General Education Provisions Act (GEPA), 20 U.S.C. 1232(d)(1).

Competitive Preference Priority: This priority is a competitive preference priority. Under 34 CFR 75.105(c)(2)(i) we award an additional 10 points to an application that meets this priority.

The priority is:

Commitment to the project: In order to build States' capacities to offer rigorous CTE programs of study through statewide or multi-State articulation agreements that will continue after Federal funding ends under this competition, we award 10 points to an application that demonstrates commitment to the project funded under this competition and to enhancing project activities by providing 30 percent of the total cost of the proposed project using either State leadership funds awarded under the Act; or non-Federal contributions, including use of facilities, equipment, supplies, services, third-party in-kind contributions, and other resources; or a combination of both State leadership funds and non-Federal contributions.

Waiver of Proposed Rulemaking: Under the Administrative Procedure Act (5 U.S.C. 553) the Department generally offers interested parties the opportunity to comment on proposed non-statutory requirements, priorities, and selection criteria. Section 437(d)(1) of GEPA, however, allows the Secretary to exempt from rulemaking requirements non-statutory requirements, priorities, and selection criteria governing the first grant competition under a new or substantially revised program authority. This is the first grant competition for this program under section 114 of the Act and, therefore, qualifies for this exemption. In order to ensure timely grant awards, the Secretary has decided to forgo public comment on the non-statutory requirements, priority, and selection criteria under the authority of section 437(d)(1) of GEPA. The non-statutory requirements, priority, and selection criteria set forth in this notice will apply to the FY 2007 funds competition and any subsequent year in which we make awards from the list of unfunded applicants from this competition.

Program Authority: 20 U.S.C. 2324(c)(1).

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education only.

II. Award Information

Type of Award: Cooperative agreements.

Estimated Available Funds: $750,000 is available from the FY 2007 appropriation for the first 12 months of the project period. $500,000 is available from the FY 2008 appropriation for the second 12 months and is subject to a grantee meeting the requirements of 34 CFR 75.253.

Contingent upon the availability of funds and the quality of applications, we may make additional awards in FY 2009 from the list of unfunded applicants from this competition.

Estimated Range of Awards: $120,000 to $130,000.

Estimated Average Size of Awards: $125,000.

Estimated Number of Awards: 6.

Note: The Department is not bound by any estimates in this notice.

Project Period: Up to 24 months.

III. Eligibility Information

1. Eligible Applicants: The following entities are eligible to apply under this competition:

(a) A State board designated or created consistent with State law as the sole State agency responsible for the administration of CTE in the State or for the supervision of the administration of CTE in the State.

(b) A consortium of State boards identified in paragraph (a) of this section. Eligible applicants proposing to develop a multi-State articulation agreement must apply for funds as a consortium and must comply with the regulations in 34 CFR 75.127 through 75.129, which address group applications.

2. Cost Sharing or Matching: This program does not require cost sharing or matching.

IV. Application and Submission Information

1. Address to Request Application Package: Scott Hess, U.S. Department of Education, 400 Maryland Avenue, SW., room 11073, Potomac Center Plaza, Washington, DC 20202-7241. Telephone: (202) 245-7772 or by e-mail: scott.hess@ed.gov.

If you use a telecommunications device for the deaf (TDD), call the Federal Relay Service (FRS), toll free, at 1-800-877-8339.

Individuals with disabilities can obtain a copy of the application package in an alternative format (e.g., Braille, large print, audiotape, or computer diskette) by contacting the program contact person listed in this section.

2. Content and Form of Application Submission: Requirements concerning the content of an application, together with the forms you must submit, are in the application package for this competition.

Notice of Intent to Apply: The Department will be able to develop a more efficient process for reviewing grant applications if it has a better understanding of the number of entities that intend to apply for funding under this competition. Therefore, the Secretary strongly encourages each potential applicant to notify the Department by sending a short e-mail message indicating the applicant's intent to submit an application for funding. The e-mail should include only the applicant's intent to submit an application; it does not need to include information regarding the content of the proposed application. This e-mail notification should be sent no later than May 30, 2008 to Scott Hess at: scott.hess@ed.gov.

We will consider an application submitted by the deadline date for transmittal of applications even if the applicant did not provide notice of its intent to apply.

Page Limit: The application narrative (Part III of the application) is where you, the applicant, address the selection criteria that reviewers use to evaluate your application. You must limit Part III to the equivalent of no more than 25 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is 12 point.

The page limit does not apply to Part I, the cover sheet; Part II, the budget section, including the narrative budget justification; Part IV, the assurances and certifications; or the one-page abstract, the resumes, or the letters of support. However, the page limit does apply to all of the application narrative section (Part III).

We will reject your application if you apply these standards and exceed the page limit; or if you apply other standards and exceed the equivalent of the page limit.

3. Submission Dates and Times:

Applications Available: May 20, 2008.

Deadline for Notice of Intent to Apply: May 30, 2008.

Deadline for Transmittal of Applications: July 7, 2008.

Applications for grants under this competition may be submitted electronically using the Grants.gov Apply site (Grants.gov), or in paper format by mail or hand delivery. For information (including dates and times) about how to submit your application electronically, or in paper format by mail or hand delivery, please refer to section IV. 6. Other Submission Requirements in this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application process, the individual's application remains subject to all other requirements and limitations in this notice.

Deadline for Intergovernmental Review: September 2, 2008.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section in this notice.

6. Other Submission Requirements: Applications for grants under this competition may be submitted electronically or in paper format by mail or hand delivery.

a. Electronic Submission of Applications: To comply with the President's Management Agenda, we are participating as a partner in the Governmentwide Grants.gov Apply site. Promoting Rigorous Career and Technical Education Programs of Study Through Statewide or Multi-State Articulation Agreements, CFDA Number 84.051C, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the Promoting Rigorous Career and Technical Programs of Study Through Statewide Articulation Agreements competition at http://www.Grants.gov. You must search for the downloadable application package for this program by the CFDA number. Do not include the CFDA number's alpha suffix in your search (e.g., search for 84.051, not 84.051C).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition, you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed under FOR FURTHER INFORMATION CONTACT in section VII in this notice and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail: If you submit your application in paper format by mail (through the U.S. Postal Service or a commercial carrier), you must mail the original and two copies of your application, on or before the application deadline date, to the Department at the applicable following address:

By mail through the U.S. Postal Service: U.S. Department of Education, Application Control Center, Attention: (CFDA Number 84.051C), 400 Maryland Avenue, SW., Washington, DC 20202-4260 or

By mail through a commercial carrier: U.S. Department of Education, Application Control Center, Stop 4260, Attention: (CFDA Number 84.051C), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery: If you submit your application in paper format by hand delivery, you (or a courier service) must deliver the original and two copies of your application by hand, on or before the application deadline date, to the Department at the following address: U.S. Department of Education, Application Control Center, Attention: (CFDA Number 84.051C), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The Secretary uses the following selection criteria to evaluate an application for this competition. The maximum score for each criterion is indicated in parentheses. The maximum score for all of these selection criteria is 150 points.

(a) Project design (50 points). In determining the quality of the design of the proposed project, the Assistant Secretary considers the extent to which the project design is an effective strategy for building a State's capacity, or the capacity of the States in the case of consortia, to promote a rigorous CTE program of study and developing a statewide or multi-State articulation agreement that will extend beyond the period of Federal financial assistance under this competition, including by—

(1) Carrying out the project using a partnership among State agencies responsible for the administration of CTE, secondary education, and postsecondary education (both two- and four-year institutions); at least one State workforce agency; representatives of employers and of faculty and administrators from the State's or States' secondary and postsecondary education institutions who are familiar with elements of the program of study (e.g., with CTE courses, industry-recognized standards, or technical skill proficiencies that will be embedded in the program of study);

(2) Making effective use of the partnership described in paragraph (a)(1) of this section and its individual members to reach agreement on the content standards for a State program of study that will improve the rigor and quality of CTE programs within the State or States within a consortium and to develop an articulation agreement for implementing the CTE program of study;

(3) For projects proposing to develop a multi-State articulation agreement, including the partners listed in paragraph (a)(1) of this section of the notice for each State participating in the project;

(4) Actively involving partners in the project (i.e., each partner will have a clearly defined leadership role in planning, developing, and implementing the program of study) as evidenced by clearly delineated responsibilities that are described in the application and by a letter from the State agency committing the agency to carry out the agreed upon responsibilities; and

(5) Involving partners whose representatives are able to answer questions and influence decisions, have excellent knowledge of the program of study to be developed, and have the authority to communicate information to decision-makers.

(b) Technical approach (45 points). In determining the quality of the technical approach of the proposed project, the Assistant Secretary considers the following factors:

(1) The extent to which the application comprehensively addresses each required project activity, clearly defining the actions to be undertaken to accomplish each activity.

(2) The extent to which the applicant demonstrates a thorough understanding of effective practices in the development of articulation agreements and of CTE programs of study.

(3) The extent to which the applicant describes in a clear and sequential manner effective strategies for accomplishing the required project activities.

(c) Project management (30 points). In determining the quality of the management plan for the proposed project, the Assistant Secretary considers the following factors:

(1) The extent to which the Project Director has clearly identified and documented professional qualifications, competencies, and experience necessary to carry out project tasks. (10 points)

(2) The extent to which—

(i) The applicant includes a description, in a clear and sequential manner, of the plan for managing the project; and

(ii) The plan provides credible evidence that the management of personnel, physical resources, and activities will result in orderly and timely completion of work within the project performance period. (15 points)

(3) The extent to which the time commitments of the Project Director, key personnel, and partners are appropriate to the tasks assigned. (5 points)

(d) Dissemination (15 points). In determining the quality of the dissemination activities of the proposed project, the Assistant Secretary considers the following factors:

(1) The extent to which the proposed project will result in replicable strategies that are practical and can be packaged for dissemination nationally.

(2) The extent to which the proposed project will develop material that can be packaged for dissemination, particularly the extent to which such material will include a description of the procedure the grantee used to develop the statewide or multi-State articulation agreement and to develop, adapt, or adopt a program of study, including any specific material or curriculum developed for the program of study.

(e) Adequacy of resources (10 points). In determining the adequacy of resources for the proposed project, the Assistant Secretary considers the following factors:

(1) The adequacy of resources for the proposed project, including facilities, equipment, supplies, and other resources needed to carry out successfully the purpose and activities of the proposed project.

(2) The extent to which the budget is adequate to support the proposed project.

(3) The extent to which the costs are reasonable in relation to the technical approach and significance of the proposed project.

VI. Award Administration Information

1. Award Notices: If your application is successful, we notify your U.S. Representative and U.S. Senators and send you a Grant Award Notice (GAN). We may notify you informally, also.

If your application is not evaluated or not selected for funding, we notify you.

2. Administrative and National Policy Requirements:

We identify administrative and national policy requirements in the application package and reference these and other requirements in the Applicable Regulations section in this notice.

We reference the regulations outlining the terms and conditions of an award in the Applicable Regulations section in this notice and include these and other specific conditions in the GAN. The GAN also incorporates the approved application as part of your binding commitments under the grant.

3. Reporting. (a) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

(b) In addition, grantees under this competition must submit—

(1) An interim report six months after the grant is awarded; and

(2) An annual report on the GPRA measures identified in the Performance Measures section of this notice.

4. Performance Measures: Under the Government Performance and Results Act of 1993, Federal departments and agencies must clearly describe the goals and objectives of programs, identify resources and actions needed to accomplish goals and objectives, develop a means of measuring progress made, and regularly report on achievement. In determining the overall effectiveness of projects funded under this competition, grantees must be prepared to measure and report on the following measures of effectiveness:

a. The percentage of the State's CTE secondary students in the career cluster for the program of study developed by the grantee who can participate in dual or concurrent enrollment programs with postsecondary institutions, or otherwise acquire postsecondary education credits, as determined by the number of CTE concentrators in the career cluster in those secondary schools that commit to implementing the articulation agreement developed by the grantee divided by the total number of CTE concentrators in the State in the career cluster for the program of study.

b. The percentage of the State's CTE postsecondary students in the career cluster for the program of study developed by the grantee who can transfer to another community college or four-year college without losing credit for courses already completed, as determined by the number of CTE concentrators in the career cluster in those postsecondary institutions that commit to implementing the articulation agreement developed by the grantee divided by the total number of CTE concentrators in the State's postsecondary institutions in the career cluster for the program of study.

c. The percentage of the State's secondary schools offering the career cluster for the grantee's program of study that commit to implementing the articulation agreement developed by the grantee.

d. The percentage of the State's postsecondary institutions offering the career cluster for the grantee's program of study that commit to implementing the articulation agreement developed by the grantee.

VII. Agency Contact

FOR FURTHER INFORMATION CONTACT: Scott Hess, U.S. Department of Education, 400 Maryland Avenue, SW., room 11073, Potomac Center Plaza, Washington, DC 20202-7241. Telephone: (202) 245-7772, or by e-mail: scott.hess@ed.gov.

If you use a TDD, call the FRS, toll free, at 1-800-877-8339.

VIII. Other Information

Alternative Format: Individuals with disabilities can obtain this document and a copy of the application package in an alternative format (e.g., Braille, large print, audiotape, or computer diskette) on request to the program contact person listed under FOR FURTHER INFORMATION CONTACT in section VII in this notice.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: May 15, 2008
Troy R. Justesen,
Assistant Secretary for Vocational and Adult Education.

[FR Doc. E8-11271 Filed 5-19-08; 8:45 am]

BILLING CODE 4000-01-P